DEPARTMENT OF ENERGY

Federal Energy Regulatory Commission

[Docket No. AD16-16-000]

Implementation Issues Under the Public Utility Regulatory Policies Act of 1978; Notice Inviting Post-Technical Conference Comments

On June 29, 2016, Federal Energy Regulatory Commission (Commission) staff conducted a technical conference to discuss implementation issues related to the Public Utility Regulatory Policies Act of 1978 (PURPA).¹ The Commission invites post-technical conference comments on the following two matters: (1) The use of the “one-mile rule” to determine the size of an entity seeking certification as a small power production qualifying facility (QF); and (2) minimum standards for PURPA-purchase contracts.

¹ 16 U.S.C. 2601 et seq. (2012).

All interested persons are invited to file post-technical conference comments on these two matters, including the questions listed in the attachment to this Notice. Commenters need not respond to all questions asked. Commenters may reference material previously filed in this docket, including the technical conference transcript, but are encouraged to submit new or additional information rather than reiterate information that is already in the record. In particular, Commenters are encouraged, when possible, to provide examples in support of their answers. These comments are due on or before November 7, 2016.

For further information about this Notice, please contact:

Adam Alvarez (Technical Information), Office of Energy Market Regulation, Federal Energy Regulatory Commission, 888 First Street NE., Washington, DC 20426, (202) 502-6734, adam.alvarez@ferc.gov.

Loni Silva (Legal Information), Office of General Counsel, Federal Energy Regulatory Commission, 888 First Street NE., Washington, DC 20426, (202) 502-6233, loni.silva@ferc.gov.

Dated: September 6, 2016.
Kimberly D. Bose,
Secretary.

[FR Doc. 2016-22598 Filed 9-19-16; 8:45 am]

BILLING CODE 6717-01-P